FEDERAL RESERVE SYSTEM

[Docket No. OP-1276]

Privacy Act of 1974; Notice of Amendment of System of Records

AGENCY: Board of Governors of the Federal Reserve System.

ACTION: Notice; amendment of one system of records.

SUMMARY: In accordance with the Privacy Act, the Board of Governors of the Federal Reserve System (Board) is publishing notice of the amendment of one system of records entitled Office of Inspector General (OIG) Investigative Records (BGFRS/OIG-1). A new routine use is being added in order for the OIG to be able to participate in qualitative assessment reviews (also known as peer reviews) of investigative operations. We invite public comment on this amended system of records.

DATES: Comments must be received on or before March 9, 2007. This system of records will become effective March 19, 2007, without further notice, unless comments dictate otherwise.

ADDRESSES: You may submit comments, identified by Docket No. OP-1276, by any of the following methods:

• Agency Web site: http://www.federalreserve.gov. Follow the instructions for submitting comments. http://www.federalreserve.gov/generalinfo/foia/ProposedRegs.cfm.

• Federal eRulemaking Portal: http://www.regulations.gov. Follow the instructions for submitting comments.

• E-mail: regs.comments@federalreserve.gov. Include docket number in the subject line of the message.

• Fax: 202/452-3819 or 202/452-3102.

• Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, except as necessary for technical reasons. Accordingly, your comments will not be edited to remove any identifying or contact information. Public comments may also be viewed electronically or in paper in Room MP-500 of the Board's Martin Building (20th and C Streets, NW.) between 9 a.m. and 5 p.m. on weekdays.

FOR FURTHER INFORMATION CONTACT: Laurence A. Froehlich, Assistant Inspector General for Legal Services, Office of the Inspector General, Board of Governors of the Federal Reserve System, 20th and C Streets, NW., Mail Stop 300, Washington, DC 20551, or (202) 973-5019, or larry.froehlich@frb.gov.

SUPPLEMENTARY INFORMATION: This publication satisfies the Privacy Act requirement that agencies publish an amended system of records notice in the Federal Register when there is a revision, change, or addition to the system of records. The Board's OIG has decided to amend BGFRS/OIG-1 to permit disclosure of records for the purpose of qualitative assessment reviews. The Homeland Security Act of 2002 (Pub. L. 107-296, Nov. 25, 2002) requires certain Inspectors General to “establish an external review process for ensuring that adequate internal safeguards and management procedures continue to exist within each Office * * *.”

The Executive Council on Integrity and Efficiency (ECIE) and the President's Council on Integrity and Efficiency (PCIE) have established peer review processes that are designed to provide qualitative measurement against Inspector General community standards to ensure that adequate internal safeguards and management procedures are maintained, to foster high-quality investigations and investigative processes, to ensure that the highest level of professionalism is maintained, and to promote consistency in investigative standards and practices within the Inspector General community. The Board's OIG has committed to undergoing qualitative assessment reviews of its investigations program. Proposed routine use (7) will allow disclosure of information to authorized officials within the ECIE, the PCIE, the Department of Justice, and the Federal Bureau of Investigation, as necessary, for the purpose of conducting qualitative assessment reviews of the OIG's investigative operations.

In addition, the Board has made a technical change under “System Manager and Address” to accurately reflect system management changes.

In accordance with 5 U.S.C. 552a(r), a report of this amended system of records is being filed with the Chair of the House Committee on Homeland Security and Government Reform and Oversight, the Chair of the Senate Committee on Governmental Affairs, and the Office of Management and Budget.

SYSTEM NAME:

OIG Investigative Records.

SYSTEM LOCATION:

Office of Inspector General, Board of Governors of the Federal Reserve System, 1709 New York Avenue NW., Suite 3000, Washington, DC 20006.

CATEGORIES OF INDIVIDUALS COVERED BY THE SYSTEM:

Individuals covered consist of:

(1) Officers or employees of the Board or other persons involved in the Board's programs or operations who are or have been under investigation by the Board's Office of Inspector General in order to determine whether such officers, employees or other persons have been or are engaging in fraud and abuse with respect to the Board's programs or operations; and

(2) Complainants and witnesses where necessary for future retrieval.

CATEGORIES OF RECORDS IN THE SYSTEM:

The system contains files on individual investigations, including investigative reports and related documents generated during the course of or subsequent to an investigation. It includes electronic and hard-copy case-tracking systems, databases containing investigatory information, “Hotline” telephone logs, and investigator work papers and memoranda and letter referrals to management or others.

AUTHORITY FOR MAINTENANCE OF THE SYSTEM:

5 U.S.C. App. 4(a)(1) and 6(a)(2).

PURPOSES:

These records are collected, maintained and used by the OIG in its inquiries and investigations and reports relating to the administration of the Board's programs and operations and to manage the investigatory program.

ROUTINE USES:

Under normal circumstances, no individually identifiable records will be provided. However, under those unusual circumstances when release of information contained in an individually identifiable record is required, proper safeguards will be maintained to protect the information collected from unwarranted invasion of personal privacy. Subject to this general limitation, the routine uses are as follows:

1. In the event the information in the system of records indicates a violation or potential violation of a criminal or civil law, rule, or regulation, the relevant records may be disclosed to the appropriate federal, state, or local agency or authority responsible for investigating or prosecuting such a violation or for enforcing or implementing a statute, rule, or regulation.

2. The information in the system of records may be disclosed to a court, magistrate, or administrative tribunal in the course of presenting evidence, including disclosures to counsel or witnesses in the course of civil discovery, litigation, or settlement negotiations or in connection with criminal proceedings.

3. The information may be disclosed to a congressional office in response to an inquiry made by that office at the request of the individual who is the subject of the records.

4. The information may be disclosed to any source, including a federal, state, or local agency maintaining civil, criminal, or other relevant enforcement information or other pertinent information, but only to the extent necessary for the OIG to obtain information relevant to an OIG investigation.

5. The information maybe disclosed in order to respond to a federal agency's request made in connection with the hiring or retention of an individual, the issuance of a security clearance, the reporting of an investigation of an individual, the letting of a contract or issuance of a grant, license, or other benefit by the requesting agency, but only to the extent that the information disclosed is necessary and relevant to the requesting agency's decision on the matter.

6. The information may be disclosed to other federal entities, such as other federal Offices of Inspector General or the General Accounting Office, or to a private party with which the OIG or the Board has contracted for the purpose of auditing or reviewing the performance or internal management of the OIG's investigatory program, provided the record will not be transferred in a form that is individually identifiable, and provided further that the entity acknowledges in writing that it is required to maintain Privacy Act safeguards for the information.

7. The information may be disclosed to officials charged with the responsibility to conduct qualitative assessment reviews of internal safeguards and management procedures employed in investigative operations. This disclosure category consists of members of the Executive Council on Integrity and Efficiency (ECIE), the President's Council on Integrity and Efficiency (PCIE), and officials and administrative staff within their investigative chain of command authorized by the ECIE or PCIE to conduct or participate in such qualitative assessment reviews.

In addition to the foregoing routine uses, a record which is contained in this system and derived from another Board system of records may be disclosed as a routine use as specified in the Federal Register notice of the system of records from which the records derived.

POLICIES AND PRACTICES FOR STORING, RETRIEVING, ACCESSING, RETAINING, AND DISPOSING OF RECORDS IN THE SYSTEM:

STORAGE:

These records are maintained in file folders, computer disks, electronic media, and reports on each investigation.

RETRIEVABILITY:

Records are generally indexed by name of person under investigation, investigation number, referral number, or investigative subject matter.

SAFEGUARDS:

File folders are maintained in lockable metal file cabinets stored in offices that are locked when not in use. Computer disks and electronic media are locked in the lockable metal file cabinets with their related file folders, and information not so lockable is kept in individual offices in locked or passworded computer hardware. Access to the information in the cabinets and individual offices is permitted only by and to specifically authorized personnel.

RETENTION AND DISPOSAL:

Records in file folders are retained as long as needed and then destroyed by shredding. Computer disks are cleared, retired, or destroyed when no longer useful. Entries on electronic media are deleted or erased when no longer needed.

SYSTEM MANAGER AND ADDRESS:

Inspector General, Board of Governors of the Federal Reserve System, 20th and C Streets, NW., Mail Stop 300, Washington, DC 20551.

NOTIFICATION PROCEDURE:

A person requesting notice as to whether this system of records contains information pertaining to him or her should write to the Office of Inspector General, Mail Stop 300, Board of Governors of the Federal Reserve System, Washington, DC 20551. Individuals requesting their own records must provide their name and address and a notarized statement attesting to the individual's identity. Requests submitted on behalf of other persons must include their written, notarized authorization. Such requests in the form prescribed may also be presented in person at the Office of the Inspector General, 1709 New York Avenue, NW., Washington, DC 20006. Simultaneously with requesting notification of inclusion in this system of records, the individual may request record access as described in the following section, “Record access procedures.”

RECORD ACCESS PROCEDURES:

Specific materials in this system have been exempted from Privacy Act provisions at 5 U.S.C. 552a(d), regarding access to records. The section of this notice titled “Exemptions claimed for the system” indicates the kinds of material exempted and the reasons for exempting them from access. Individuals wishing to request access to non-exempt records should follow the procedures described in the “Notification procedure” section. Requests submitted on behalf of other persons must include their written, notarized authorization. If access to such information by a subject individual is deemed consistent with the purposes for which this system of records has been established, then the individual will be notified by the OIG as to the time and place for access to the records. The OIG will also notify individuals when access is denied.

CONTESTING RECORD PROCEDURE:

Individuals requesting amendment or contesting records in this system of records should contact the OIG at the address given above, reasonably identify the records, specify the information being contested, the rationale for the challenge, and supply the information requested to be substituted. Such individuals must also comply with the Board's Privacy Act regulations on “Request for correction or amendment of record” (12 CFR 261a.7).

RECORD SOURCE CATEGORIES:

The OIG collects information from many sources including the subject individuals, employees of the Board and the Federal Reserve System, other government employees, witnesses and informants, and nongovernmental sources.

SYSTEM(S) EXEMPTED FROM CERTAIN PROVISIONS OF THE ACT:

Pursuant to 5 U.S.C. 552a(k)(2), this system of records is exempted from 5 U.S.C. 552a(c)(3), (d)(1), (d)(2), (e)(1), (e)(4)(G), (H), and (I), and (f) to the extent the system of records consists of investigatory material compiled for law enforcement purposes. Pursuant to 5 U.S.C. 552a(k)(5), this system of records is exempted from 5 U.S.C. 552a(d)(1) to the extent that it consists of investigatory material compiled for the purpose of determining suitability, eligibility, or qualifications for federal civilian employment or federal contracts, the release of which would reveal the identity of a source who furnished confidential information to the Government under an express promise that the identity of the source would be held in confidence. Pursuant to 5 U.S.C. 552a(j)(2), this system of records is exempted from 5 U.S.C. 552a(c)(3), (d)(1), (d)(2), (e)(1), (e)(2), and (e)(3) to the extent that it consists of information compiled for the purpose of criminal investigations.

By order of the Board of Governors of the Federal Reserve System, February 1, 2007.
Jennifer J. Johnson,
Secretary of the Board.

[FR Doc. E7-1902 Filed 2-6-07; 8:45 am]

BILLING CODE 6210-01-P